DEPARTMENT OF JUSTICE

Notice of Lodging of Proposed Consent Decree Under the Clean Water Act

On May 13, 2014, the Department of Justice lodged a proposed Consent Decree with the United States District Court for the District of Puerto Rico in the lawsuit entitled United States v. Cemex Concretos, Inc. and Cemex de Puerto Rico, Inc., Civil Action No. 3:14-cv-01386.

This settlement resolves the United States' claims against Defendants Cemex Concretos, Inc. and Cemex de Puerto Rico, Inc. for Defendants' violations of the Clean Water Act, the Act's implementing regulations, and the National Pollutant Discharge Elimination System (“NPDES”) Multi-Sector General Permit for Stormwater Discharges Associated with Industrial Activities, at eighteen ready-mix concrete facilities owned and/or operated by Defendants in Puerto Rico.

The proposed Consent Decree will require Defendants to implement comprehensive injunctive relief to ensure that all active ready-mix concrete facilities comply with the Clean Water Act and applicable NPDES Multi-Sector General Permit. The injunctive relief includes conducting hydrology and hydraulic studies, implementing stormwater compliance plans that incorporate the results of facility-specific engineering analysis reports, establishing new sampling points, improving best management practices, and providing enhanced training and new environmental compliance personnel at the active facilities. The cost of implementing this injunctive relief is approximately $1.8 million. In addition, Defendants will pay a $360,000 civil penalty and implement a supplemental environmental project, which involves donating for conservation 401 acres of land valued at approximately $2.36 million.

The publication of this notice opens a period for public comment on the Consent Decree. Comments should be addressed to the Assistant Attorney General, Environment and Natural Resources Division, and should refer to United States v. Cemex Concretos, Inc. and Cemex de Puerto Rico, Inc., D.J. Ref. No. 90-5-1-1-10430. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $18.50 (25 cents per page reproduction cost) payable to the United States Treasury. For a paper copy without the exhibits and signature pages, the cost is $14.50.

Robert E. Maher, Jr.,
Assistant Section Chief, Environmental Enforcement Section, Environment and Natural Resources Division.

[FR Doc. 2014-11377 Filed 5-16-14; 8:45 am]

BILLING CODE 4410-15-P